BUREAU OF CONSUMER FINANCIAL PROTECTION

12 CFR CH. X

Semiannual Regulatory Agenda

AGENCY: Bureau of Consumer Financial Protection.

ACTION: Semiannual regulatory agenda.

SUMMARY: The Bureau of Consumer Financial Protection (CFPB or Bureau) is publishing this agenda as part of the Fall 2014 Unified Agenda of Federal Regulatory and Deregulatory Actions. The CFPB reasonably anticipates having the regulatory matters identified below under consideration during the period from November 1, 2014, to October 31, 2015. The next agenda will be published in spring 2015 and will update this agenda through spring 2016. Publication of this agenda is in accordance with the Regulatory Flexibility Act (5 U.S.C. 601 et seq.).

DATES: This information is current as of September 23, 2014.

ADDRESS: Bureau of Consumer Financial Protection, 1700 G Street NW., Washington, DC 20552.

FOR FURTHER INFORMATION CONTACT: A staff contact is included for each regulatory item listed herein.

SUPPLEMENTARY INFORMATION: The CFPB is publishing its fall 2014 agenda as part of the Fall 2014 Unified Agenda of Federal Regulatory and Deregulatory Actions, which is coordinated by the Office of Management and Budget under Executive Order 12866. The CFPB's participation in the Unified Agenda is voluntary. The complete Unified Agenda will be available to the public at the following Web site: http://www.reginfo.gov.

Pursuant to the Dodd-Frank Wall Street Reform and Consumer Protection Act, Public Law 111-203, 124 Stat. 1376 (Dodd-Frank Act), the CFPB has rulemaking, supervisory, enforcement, and other authorities relating to consumer financial products and services. These authorities include the ability to issue regulations under more than a dozen Federal consumer financial laws, which transferred to the CFPB from seven Federal agencies on July 21, 2011. The CFPB is working on a wide range of initiatives to address issues in markets for consumer financial products and services that are not reflected in this notice because the Unified Agenda is limited to rulemaking activities.

The CFPB reasonably anticipates having the regulatory matters identified below under consideration during the period from November 1, 2014, to October 31, 2015.¹ Among the Bureau's more significant regulatory efforts are the following.

¹ The listing does not include certain routine, frequent, or administrative matters. Further, certain of the information fields for the listing are not applicable to independent regulatory agencies, including the CFPB, and, accordingly, the CFPB has indicated responses of “no” for such fields.

Implementing Dodd-Frank Act Mortgage Protections

A major rulemaking priority for the Bureau continues to be the implementation of provisions of the Dodd-Frank Act addressing practices and information concerning the nation's mortgage markets. The Bureau has already issued regulations implementing Dodd-Frank Act protections for mortgage originations and servicing, and integrating various Federal mortgage disclosures, as discussed further below. The Bureau is also working to implement Dodd-Frank amendments to the Home Mortgage Disclosure Act (HMDA), which augment existing data reporting requirements regarding housing-related loans and applications for such loans. In addition to obtaining data that is critical to the purposes of HMDA—which include providing the public and public officials with information that can be used to help determine whether financial institutions are serving the housing needs of their communities, assisting public officials in the distribution of public sector investments, and assisting in identifying possible discriminatory lending patterns and enforcing antidiscrimination statutes—the Bureau views this rulemaking as an opportunity to streamline and modernize HMDA data collection and reporting in furtherance of its mission under the Dodd-Frank Act to reduce unwarranted regulatory burden. The Bureau published a proposed HMDA rule in the Federal Register on August 29, 2014, to add several new reporting requirements and to clarify several existing requirements. Publication of the proposal followed initial outreach efforts and the convening of a panel under the Small Business Regulatory Enforcement Fairness Act in conjunction with the Office of Management and Budget and the Small Business Administration's Chief Counsel for Advocacy to consult with small lenders who may be affected by the rulemaking. As the Bureau develops a final rule, it expects to review and consider public comments on the proposed rule, consult with other agencies and coordinate with them on implementation efforts, conduct additional outreach to build and refine operational capacity, and prepare to assist financial institutions in their compliance efforts.

The Bureau is also working to support implementation of its final rule combining several Federal mortgage disclosures that consumers receive in connection with applying for and closing on a mortgage loan under the Truth in Lending Act (TILA) and the Real Estate Settlement Procedures Act (RESPA). The project to integrate and streamline the disclosures was mandated under the Dodd-Frank Act, and is intended to increase consumer understanding of mortgage transactions and facilitate compliance by industry. The integrated forms are the cornerstone of the Bureau's broader “Know Before You Owe” initiative. The rule was issued in November 2013, and takes effect in August 2015. The Bureau is working intensively to support implementation efforts and prepare consumer education materials and initiatives to help consumers understand and use the new forms. In addition, in late 2014, the Bureau plans to issue a small proposed rule to make technical corrections, allow for certain language related to new construction loans to be added to the Loan Estimate form, and modify the same-day redisclosure requirement for floating interest rates that are locked after the Loan Estimate is first provided.

The Bureau is also working to support the full implementation of, and facilitate compliance with, various mortgage-related final rules issued by the Bureau in January 2013, to strengthen consumer protections involving the origination and servicing of mortgages. These rules, implementing requirements under the Dodd-Frank Act, were all effective by January 2014. The Bureau is working diligently to monitor the market and plans to make clarifications and adjustments to the rules where warranted. The Bureau is planning to issue rules in fall 2014, to provide certain adjustments to its rules for certain nonprofit entities and to provide a cure mechanism for lenders seeking to make “qualified mortgages” under rules requiring assessment of consumers' ability to repay their mortgage loans where the mortgages exceed certain limitations on points and fees. The Bureau also anticipates issuing a proposal in fall 2014, to amend various provisions of its mortgage servicing rules, in both Regulation X and Regulation Z, including further clarification of the applicability of certain provisions when the borrower is in bankruptcy, possible additional enhancements to loss mitigation requirements, and other topics. In addition, in order to promote access to credit, the Bureau is also currently engaged in further research to assess the impact of certain provisions implemented under the Dodd-Frank Act that modify general requirements for small creditors that operate predominantly in “rural or underserved” areas, and expects to release a notice of proposed rulemaking in early 2015.

Bureau Regulatory Efforts in Other Consumer Markets

The Bureau continues to work on and consider a number of rulemakings to address important consumer protection issues in other markets for consumer financial products and services.

First, in fall 2014, the Bureau anticipates issuing a proposed rule to create a comprehensive set of protections for General Purpose Reloadable (GPR) cards and other prepaid products, such as payroll cards and student loan disbursement cards, which are increasingly being used by consumers in place of a traditional deposit account or credit card. The proposal will build on comments received by the Bureau in response to a 2012 Advance Notice of Proposed Rulemaking seeking comment, data, and information from the public about GPR cards. The proposed rule will seek to expand coverage in Regulation E (implementing the Electronic Fund Transfer Act) to prepaid accounts, including GPR cards, by extending and in some cases modifying disclosure, periodic statement, and error resolution requirements that apply to consumer asset accounts that are currently subject to Regulation E. The Bureau also expects the proposal to address treatment of overdraft services and credit features in connection with prepaid accounts under both Regulation Z (Truth in Lending Act) and Regulation E.

Building on Bureau research and other sources, the Bureau is also considering what rules may be appropriate for addressing the sustained use of short-term, high-cost credit products such as payday loans and deposit advance products. The Bureau issued a white paper on these products in April 2013 and a data point providing additional research in March 2014, and is continuing to analyze other consumer protection concerns associated with the use of high-cost, small-dollar credit products. Rulemaking might include disclosures or address acts or practices in connection with these products.

The Bureau is also continuing to develop research on other critical consumer protection markets to help assess whether regulation may be warranted. For example, the Bureau issued research on bank and credit union overdraft programs in 2013 and 2014 and is planning to release the results of further studies on overdraft programs and their effects on consumers.

In addition, the Bureau has launched research initiatives to build on its November 2013, Advance Notice of Proposed Rulemaking on debt collection. These efforts include undertaking a survey to obtain information from consumers about their experiences with debt collection and launching consumer testing initiatives to determine what information would be useful for consumers to have about debt collection and their debts and how that information should be provided to them.

The Bureau is also continuing rulemaking activities that will further establish the Bureau's nonbank supervisory authority by defining larger participants of certain markets for consumer financial products and services. Larger participants of such markets, as the Bureau defines by rule, are subject to the Bureau's supervisory authority. In fall 2014, the Bureau issued a final rule that amended the regulation defining larger participants of certain consumer financial products and services markets by adding a new section to define larger participants of a market for international money transfers, and began a rulemaking that would define larger participants of a market for automobile financing and define certain automobile leasing activity as a financial product or service.

Bureau Regulatory Streamlining Efforts

The Bureau is continuing work to consider opportunities to modernize and streamline regulations that it inherited from other agencies pursuant to a transfer of rulemaking authority under the Dodd-Frank Act. This work includes implementing the consolidation and streamlining of Federal mortgage disclosure forms discussed earlier, and exploring opportunities to reduce unwarranted regulatory burden as part of the HMDA rulemaking. The Bureau also issued rules in fall 2014, to allow financial institutions that restrict their information sharing practices and meet other requirements to post their annual privacy notices to customers under the Gramm-Leach-Bliley Act online rather than delivering them individually. The rulemaking addresses longstanding concerns that the annual mailings are a source of unwarranted regulatory burden and unwanted paperwork for consumers.

Finally, the Bureau is continuing to assess timelines for other rulemakings mandated by the Dodd-Frank Act or inherited from other agencies and to conduct outreach and research to assess issues in various other markets for consumer financial products and services. As this work continues, the Bureau will evaluate possible policy responses, including possible rulemaking actions, taking into account the critical need for and effectiveness of various policy tools. For example, as directed by Congress, the Bureau is conducting a study on the use of arbitration agreements provided for consumer disputes in connection with the offering or providing of consumer financial products or services. Upon the completion of this study, the Bureau will evaluate possible policy responses, including possible rulemaking actions, the findings of which shall be consistent with the study. The Bureau will update its regulatory agenda in spring 2015, to reflect the results of this further prioritization and planning.

Dated: September 23, 2014.
Meredith Fuchs,
General Counsel, Bureau of Consumer Financial Protection.

Consumer Financial Protection Bureau—Final Rule Stage
Sequence No. | Title | Regulation Identifier No.
445 | Home Mortgage Disclosure Act (Regulation C) | 3170-AA10
446 | The Expedited Funds Availability Act (Regulation CC) | 3170-AA31

Consumer Financial Protection Bureau—Long-Term Actions
Sequence No. | Title | Regulation Identifier No.
447 | Business Lending Data (Regulation B) | 3170-AA09

CONSUMER FINANCIAL PROTECTION BUREAU (CFPB)

Final Rule Stage

445. Home Mortgage Disclosure Act (Regulation C)

Legal Authority: 12 U.S.C. 2801 to 2810

Abstract: Section 1094 of the Dodd-Frank Wall Street Reform and Consumer Protection Act (Dodd-Frank Act) amended the Home Mortgage Disclosure Act (HMDA), which requires certain financial institutions to collect and report information in connection with housing-related loans and applications they receive for such loans. The amendments made by the Dodd-Frank Act, among other things, expand the scope of information relating to mortgage applications and loans that must be compiled, maintained, and reported under HMDA, including the ages of loan applicants and mortgagors, information relating to the points and fees payable at origination, the difference between the annual percentage rate associated with the loan and benchmark rates for all loans, the term of any prepayment penalty, the value of the property to be pledged as collateral, the term of the loan and of any introductory interest rate for the loan, the presence of contract terms allowing non-amortizing payments, the application channel, and the credit scores of applicants and mortgagors. The Dodd-Frank Act also provides authority for the CFPB to require other information, including identifiers for loans, parcels, and loan originators. The CFPB released a proposal in July 2014, published in the Federal Register on August 29, 2014 that would add data points in accordance with the Dodd-Frank Act amendments and align, to the extent practicable, the regulatory requirements with existing industry standards for collecting data on mortgage loans and applications. The proposal also included other revisions to its regulations to effectuate the purposes of HMDA, including changes to institutional and transactional coverage, modifications of reporting requirements, and clarifications of other existing regulatory provisions.

Timetable:

Action | Date | FR Cite
NPRM | 08/29/14 | 79 FR 51731
NPRM Comment Period End | 10/29/14 |
Final Rule | 07/00/15 |

Regulatory Flexibility Analysis Required: Yes.

Agency Contact: Joan Kayagil, Office of Regulations, Consumer Financial Protection Bureau, Phone: 202 435-7700.

RIN: 3170-AA10

446. The Expedited Funds Availability Act (Regulation CC)

Legal Authority: 12 U.S.C. 4001 et seq.

Abstract: The Expedited Funds Availability Act (EFA Act), implemented by Regulation CC, governs availability of funds after a check deposit and check collection and return processes. Section 1086 of the Dodd-Frank Wall Street Reform and Consumer Protection Act amended the EFA Act to provide the CFPB with joint rulemaking authority with the Board of Governors of the Federal Reserve System (Board) over certain consumer-related EFA Act provisions. The Board proposed amendments to Regulation CC in March 2011, to facilitate the banking industry's ongoing transition to fully-electronic interbank check collection and return. The Board's proposal includes some provisions that are subject to the CFPB's joint rulemaking authority, including the period for funds availability and revising model form disclosures. In addition, in December 2013, the Board proposed revised amendments to certain Regulation CC provisions that are not subject to the CFPB's authority and stated in the proposal that the comment period has been extended to May 2, 2014. The CFPB will work with the Board to issue jointly a final rule that includes provisions within the CFPB's authority.

Timetable:

Action | Date | FR Cite
NPRM | 03/25/11 | 76 FR 16862
NPRM Comment Period End | 06/03/11 |
Final Rule | 06/00/15 |

Regulatory Flexibility Analysis Required: Yes.

Agency Contact: Joseph Baressi, Office of Regulations, Consumer Financial Protection Bureau, Phone: 202 435-7700.

RIN: 3170-AA31

CONSUMER FINANCIAL PROTECTION BUREAU (CFPB)

Long-Term Actions

447. Business Lending Data (Regulation B)

Legal Authority: 15 U.S.C. 1691c-2

Abstract: Section 1071 of the Dodd-Frank Wall Street Reform and Consumer Protection Act (Dodd-Frank Act) amends the Equal Credit Opportunity Act (ECOA) to require financial institutions to report information concerning credit applications made by women- or minority-owned businesses and small businesses. The amendments made by the Dodd-Frank Act require that certain data be collected and maintained under ECOA, including the number of the application and date the application was received; the type and purpose of loan or credit applied for; the amount of credit applied for and approved; the type of action taken with regard to each application and the date of such action; the census tract of the principal place of business; the gross annual revenue; and the race, sex, and ethnicity of the principal owners of the business. The CFPB expects to begin developing proposed regulations concerning the data to be collected and appropriate procedures, information safeguards, and privacy protections for information-gathering under this section.

Timetable:

Action | Date | FR Cite
CFPB Expects Further Action To Be Determined | To Be Determined

Regulatory Flexibility Analysis Required: Yes.

Agency Contact: Charles Honig, Office of Regulations, Consumer Financial Protection Bureau, Phone: 202 435-7700.

RIN: 3170-AA09

[FR Doc. 2014-28987 Filed 12-19-14; 8:45 am]

BILLING CODE 4810-AM-P